DEPARTMENT OF COMMERCE

National Institute of Standards and Technology

AGENCY: National Institute of Standards and Technology, Department of Commerce.

ACTION: Notice of Public Workshop.

SUMMARY: The National Institute of Standards and Technology (NIST) announces that the Smart Connected Systems Division (SCSD) will hold a “Workshop on Whole Community Preparedness for Smart Cities and Communities” on August 27, 2024 from 9:00 a.m. to 5:00 p.m. Eastern Time and on August 28, 2024 from 9:00 a.m. to 4:00 p.m. Eastern Time. The primary purpose of this workshop is to define the acceptability, feasibility, and technical requirements for an integrated communications infrastructure to support community disaster planning and response and improve overall community resilience. Workshop outcomes will support SCSD work to define technology applications, analyses, key performance indicators, and adaptive decision architectures for public safety planning to more effectively respond to and recover from large-scale disasters and emergencies. Workshop participants will help NIST define the acceptability, feasibility, and general communications infrastructure to support community disaster planning and response and improve multi-agency crisis communications among local officials and community leaders during complex events. The workshop agenda will be posted on the NIST website at https://www.nist.gov/news-events/events/2024/08/workshop-whole-community-public-safety-and-resilience-smart-cities.

DATES: The NIST SCSD workshop will be held on Tuesday, August 27, 2024 from 9:00 a.m. to 5:00 p.m. Eastern Time and on Wednesday, August 28, 2024 from 9:00 a.m. to 4:00 p.m. Eastern Time. The workshop requires pre-registration and is open to the public. Registration will close on Friday, August 23, 2024 at 11:59 p.m. Eastern Time.

ADDRESSES: The workshop will be held at the George H.W. Bush School of Government and Public Service of Texas A&M University, located at 1620 L St. NW, Washington, DC. The event will be conducted on-site only and will not be accessible virtually.

Please note participation instructions under the SUPPLEMENTARY INFORMATION section of this notice.

FOR FURTHER INFORMATION CONTACT: Michael Dunaway, Associate Director of Innovation, Smart Connected Systems Division, NIST, 200 Bureau Drive, Gaithersburg, MD 20899, at michael.dunaway@nist.gov or (301) 975-6325. Please direct media inquiries to NIST's Office of Public Affairs at (301) 975-2762.

SUPPLEMENTARY INFORMATION: The goal of the NIST research effort is to define a structure for community safety, security, economic vitality, and overall community resilience through integration of advanced technologies into city operations and infrastructure in smart connected communities. Key to this approach is the inclusion of the resources, capabilities and talent resident in the community, its civil population, and the private sector. Outputs from the workshop will help establish the technical and operational foundation for a “whole community approach” to disaster preparedness and resilience. The resulting system will be piloted in select smart cities and communities and adopted as a foundation for public safety within the NIST Smart Cities program. Following the workshop, NIST will publish a conference report that will be made available to the public. The workshop agenda will be posted on the NIST website at https://www.nist.gov/news-events/events/2024/08/workshop-whole-community-public-safety-and-resilience-smart-cities.

Registration

All attendees are required to register to be admitted. The registration page may be accessed at https://events.nist.gov/profile/33194 and requires participant's full name; email address; and organizational affiliation. The workshop is being conducted for in-person attendance only at the Bush School of Government and Public Policy at 1620 L St. NW, Washington, DC. The building has controlled access and will only be open for entry to the workshop from 8:00 a.m. to 9:00 a.m. on August 27-28, 2024.

Registration will remain open through Friday, August 23, 2024 at 11:59 p.m. Eastern Time. Space is limited and registration for all attendees is being made available on a first-come, first-served basis. There is no cost for registration.

Tamiko Ford,
NIST Executive Secretariat.

[FR Doc. 2024-18595 Filed 8-19-24; 8:45 am]

BILLING CODE 3510-13-P